DEPARTMENT OF THE INTERIOR

Bureau of Land Management

[WY-100-22; WYW-158906]

Notice of Realty Action; Agricultural Lease of Public Lands, Wyoming

AGENCY: Bureau of Land Management, Interior.

ACTION: Notice of Realty Action, Agricultural Lease of Public Lands in Sublette County.

SUMMARY: The Bureau of Land Management has determined that the land described below is suitable for agricultural lease under Section 302 of the Federal Land Policy and Management Act of 1976, 43 U.S.C. 1732.

Sixth Principal Meridian

T.30 N., R. 112 W., section 18, NE¼SE¼.

These lands contain 6.90 acres.

FOR FURTHER INFORMATION CONTACT: Priscilla Mecham, Field Manager, Bureau of Land Management, Pinedale Resource Area, P.O. Box 768, Pinedale, WY 82941, 307-367-5300. The casefile may be reviewed at the Pinedale Resource Area office.

SUPPLEMENTARY INFORMATION: The Bureau of Land Management proposes to lease the above described land for haying purposes for a 3-year period on a non-competitive land use permit.

Interested parties may submit comments to the Bureau of Land Management, Field Manager, Pinedale, P.O. Box 768, Pinedale, Wyoming 82941 until [July 9, 2004.] Any adverse comments will be evaluated by the State Director who may sustain, vacate, or modify this realty action. In the absence of any objections, this proposed realty action will become effective on [July 26, 2004.]

Authority: 43 U.S.C. 1712(f) and 43 CFR 2920.4(c)

Dated: February 4, 2004.
Priscilla Mecham,
Field Manager.

[FR Doc. 04-11722 Filed 5-24-04; 8:45 am]

BILLING CODE 4310-22-M